ENVIRONMENTAL PROTECTION AGENCY

[EPA-HQ-OPPT-2024-0508; FRL-12307-01-OCSPP]

Agency Information Collection Activities; Proposed New Collection and Request for Comment; Threshold Setting Data Needs for the Label Program for Low Embodied Carbon Construction Materials

AGENCY: Environmental Protection Agency (EPA).

ACTION: Notice.

SUMMARY: In compliance with the Paperwork Reduction Act (PRA), this document announces the availability of and solicits public comment on the following Information Collection Request (ICR) that EPA is planning to submit to the Office of Management and Budget (OMB): “Threshold Setting Data Needs for the Label Program for Low Embodied Carbon Construction Materials,” identified by EPA ICR No. 2805.01 and OMB Control No. 2070-NEW. This ICR represents a new request. Before submitting the ICR to OMB for review and approval under the PRA, EPA is soliciting comments on specific aspects of the information collection that is summarized in this document. The ICR and accompanying material are available in the docket for public review and comment.

DATES: Comments must be received on or before January 6, 2025.

ADDRESSES: Submit your comments, identified by docket identification (ID) number EPA-HQ-OPPT-2024-0508, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/ dockets.

FOR FURTHER INFORMATION CONTACT: Connie Ocampo, Office of Program Support (7602M), Office of Chemical Safety and Pollution Prevention, Environmental Protection Agency, 1200 Pennsylvania Ave. NW, Washington, DC 20460-0001; telephone number: (202) 566-1216; email address: ocampo.connie@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Threshold Setting Data Needs for the Label Program for Low Embodied Carbon Construction Materials.

EPA ICR No.:2805.01.

OMB Control No.: 2070-NEW.

ICR status: This ICR is for a new information collection activity. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: This ICR is for the Low Embodied Carbon Construction Materials Program (the Program). Under this ICR, the Program is seeking approval to collect the data on the asphalt and concrete products purchased by state and local government agencies and the concrete products purchased by large architectural and engineering (A&E) firms. Among the data being requested is information on Environmental Product Declarations (EPDs) associated with these products. EPD information, along with data on amounts purchased of each product, will provide EPA with data that can be used in setting threshold values to define categories for labels under the Program. The underpinnings of being able to label construction materials with substantially lower levels of embodied greenhouse gas emissions is collecting, assessing the quality of, and analyzing data on embodied greenhouse gas emissions of products and materials and setting substantially lower embodied carbon emissions thresholds. To do so effectively, the Agency will need to supplement available data from public data sources with direct requests for information from users about the specifications for materials purchased and the volumes purchased. The Program's beginning focus is on four types of materials: (1) concrete and cement, (2) steel, (3) asphalt binders, and (4) glass. The ICR, however, will only need to focus on two sectors: concrete and asphalt. Additionally, this ICR is only focused on collecting data from the larger consumers of these two materials (state/local agencies and large A&E firms). EPA will include the other sectors in a future ICR.

Burden statement: The annual public reporting and recordkeeping burden for this collection of information is estimated to average 60 hours per response. Burden is defined in 5 CFR 1320.3(b).

The ICR, which is available in the docket along with other related materials, provides a detailed explanation of the collection activities and the burden estimate that is only briefly summarized here:

Respondents/affected entities: Entities potentially affected by this ICR are those that potentially affected entities with North American Industrial Classification System (NAICS) for the following NAICS codes state government (NAICS code 9920), local governments (NAICS code 9930), construction (NAICS code 23), and construction of buildings (NAICS code 236).

Respondent's obligation to respond: Voluntary.

Forms: EPA Form 9600-XX.

Frequency of response: On occasion.

Total estimated number of potential respondents: 95.

Total estimated average number of responses for each respondent: 1.

Total estimated annual burden hours: 5,700 hours.

Total estimated annual respondent costs: $325,319 million, which includes $0 for capital investment or maintenance and operational costs.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: November 2, 2024.
Michal Freedhoff,
Assistant Administrator, Office of Chemical Safety and Pollution Prevention.

[FR Doc. 2024-25880 Filed 11-6-24; 8:45 am]

BILLING CODE 6560-50-P